DEPARTMENT OF TRANSPORTATION

Federal Aviation Administration

Advisory Circular 23.1419-2B, Certification of Part 23 Airplanes for Flight in Icing Conditions

AGENCY: Federal Aviation Administration (FAA), DOT.

ACTION: Notice of availability of Advisory Circular 23.1419-2B, Certification of Part 23 Airplanes for Flight in Icing Conditions.

SUMMARY: This notice announces the availability of Advisory Circular 23.1419-2B, Certification of Part 23 Airplanes for Flight in Icing Conditions, which provides information on demonstrating compliance with the ice protection requirements in Title 14 of the Code of Federal Regulations (14 CFR) part 23.

FOR FURTHER INFORMATION CONTACT: Paul Pellicano, Aerospace Engineer, FAA, Atlanta Aircraft Certification Office, One Crown Center, 1895 Phoenix Boulevard, suite 450, Atlanta, Georgia 30349; telephone: (770) 703-6064; facsimile: (770) 703-6097.

SUPPLEMENTARY INFORMATION:

Discussion

You may download a copy from the FAA Web site at [http://www.faa.gov/certification/aircraft/small_airplane_directorate_news_latest.htm], or request a copy by contacting the person named above under FOR FURTHER INFORMATION CONTACT.

This advisory circular (AC) sets forth an acceptable means, but not the only means, of demonstrating compliance with the ice protection requirements in Title 14 of the Code of Federal Regulations (14 CFR) part 23. The FAA developed this AC to give more detailed and uniform guidance for approval of airplane ice protection systems for operating in the icing environment defined by 14 CFR part 25, Appendix C. The guidance should be applied to new Type Certificates (TCs), Supplemental Type Certificates (STCs), and amendments to existing TCs for airplanes under Part 3 of the Civil Aviation Regulations (CAR) and part 23, for which approval under the provisions of § 23.1419 is desired.

Issued in Kansas City, Missouri on October 4, 2002.
James E. Jackson,
Acting Manager, Small Airplane Directorate, Aircraft Certification Service.

[FR Doc. 02-29449 Filed 11-19-02; 8:45 am]

BILLING CODE 4910-13-P